DEPARTMENT OF ENERGY

Federal Energy Regulatory Commission

Combined Notice of Filings #1

March 16, 2010.

Take notice that the Commission received the following electric rate filings:

Docket Numbers: ER98-1150-001; ER07-964-002; ER07-1232-003.

Applicants: Tucson Electric Power Company; UNS Electric, Inc.; UniSource Energy Development Company.

Description: Tucson Electric Power Co. submits a supplement to Triennial Market Power Update.

Filed Date: 03/11/2010.

Accession Number: 20100316-0018.

Comment Date: 5 p.m. Eastern Time on Thursday, April 1, 2010.

Docket Numbers: ER00-2885-025; ER05-1232-020; ER09-335-006; ER07-1112-009; ER07-1113-009; ER07-1116-008; ER07-1117-011; ER07-1118-010; ER07-1356-011; ER07-1358-010; ER01-2765-024; ER09-609-002; ER02-2102-024; ER03-1283-019; ER09-1141-003;

Applicants: J.P. Morgan Ventures Energy Corporation, BE Allegheny LLC, BE CA LLC, BE Ironwood LLC,BE KJ LLC, BE Alabama LLC, BE Louisiana LLC, Cedar Brakes I, L.L.C., Utility Contract Funding, L.L.C., Vineland Energy LLC, Central Power & Lime LLC, Cedar Brakes II, L.L.C., J.P. Morgan Commodities Canada Corporation, BE Rayle LLC.

Description: JPMorgan Sellers submit Supplement of Red Hills Notice of Non-Material Change in Status.

Filed Date: 03/12/2010.

Accession Number: 20100312-5120.

Comment Date: 5 p.m. Eastern Time on Friday, April 2, 2010.

Docket Numbers: ER01-2765-025; ER00-2885-026; ER05-1232-021; ER09-335-007; ER07-1112-010; ER07-1113-010; ER07-1116-009; ER07-1117-012; ER07-1118-011; ER07-1356-012; ER07-1358-011; ER09-609-003; ER02-2102-025; ER03-1283-020; ER09-1141-005.

Applicants: J.P. Morgan Ventures Energy Corporation, BE Allegheny LLC, BE CA LLC, BE Ironwood LLC,BE KJ LLC, BE Alabama LLC, BE Louisiana LLC, Cedar Brakes I, L.L.C., Utility Contract Funding, L.L.C., Vineland Energy LLC, Central Power & Lime LLC, Cedar Brakes II, L.L.C., J.P. Morgan Commodities Canada Corporation, BE Rayle LLC.

Description: JPMorgan Sellers submit Supplement of Rail Splitter Notice of Non-Material Change in Status.

Filed Date: 03/12/2010.

Accession Number: 20100312-5117.

Comment Date: 5 p.m. Eastern Time on Friday, April 2, 2010.

Docket Numbers: ER05-1232-018; ER09-335-004; ER07-1112-008; ER07-1113-008; ER07-1116-007; ER07-1117-009; ER07-1118-009; ER07-1356-010; ER07-1358-009; ER00-2885-024; ER01-2765-023; ER09-609-001; ER02-2102-023; ER03-1283-018; ER09-1141-008.

Applicants: J.P. Morgan Ventures Energy Corporation, BE Allegheny LLC, BE CA LLC, BE Ironwood LLC, BE KJ LLC, BE Alabama LLC, BE Louisiana LLC, Cedar Brakes I, L.L.C., Utility Contract Funding, L.L.C., Vineland Energy LLC, Central Power & Lime LLC, Cedar Brakes II, L.L.C., J.P. Morgan Commodities Canada Corporation, BE Rayle LLC.

Description: JPMorgan Sellers submit Supplement of Smoky II Notice of Non-Material Change in Status.

Filed Date: 03/12/2010.

Accession Number: 20100312-5118.

Comment Date: 5 p.m. Eastern Time on Friday, April 2, 2010.

Docket Numbers: ER06-750-004; ER00-38-008; ER00-1115-008; ER00-3562-008; ER06-749-004; ER06-751-005; ER06-441-003; ER01-480-007; ER06-752-004; ER07-1335-004.

Applicants: Broad River Energy LLC, Calpine Construction Finance Company, LP, Calpine Energy Services LP, Carville Energy LLC, Columbia Energy LLC, Decatur Energy Center, LLC, Mobile Energy LLC, Morgan Energy Center, LLC; Pine Bluff Energy, LLC; Santa Rosa Energy Center, LLC.

Description: Supplement to Update Market Power Analysis for the Southeast Region of Auburndale Peaker Energy Center, L.L.C., et al.

Filed Date: 03/15/2010.

Accession Number: 20100315-5232.

Comment Date: 5 p.m. Eastern Time on Monday, April 5, 2010.

Docket Numbers: ER07-501-024; ER07-758-021; ER08-649-017; ER06-739-025; ER06-738-025; ER02-537-028; ER03-983-025.

Applicants: Birchwood Power Partners, L.P.; Inland Empire Energy Center, L.L.C.; EFS Parlin Holdings, LLC; East Coast Power Linden Holding, LLC; Cogen Technologies Linden Venture, L.P.; Fox Energy Company, LLC; Shady Hills Power Company, L.L.C.

Description: Notice of Non-Material Change in Status of East Coast Power Linden Holding, LLC.

Filed Date: 03/15/2010.

Accession Number: 20100315-5234.

Comment Date: 5 p.m. Eastern Time on Monday, April 5, 2010.

Docket Numbers: ER08-912-011; ER08-387-013; ER09-32-008; ER06-200-022; ER09-279-006; ER10-378-002; ER07-254-016; ER03-1326-022; ER07-460-013; ER09-1723-006; ER05-365-024; ER09-30-007; ER10-377-002; ER09-31-007; ER05-1262-027; ER06-1093-023; ER03-296-026; ER09-382-006; ER01-3121-024; ER02-418-023; ER03-416-026; ER05-332-023; ER07-287-016; ER08-933-010; ER07-195-018; ER08-934-011; ER07-242-017; ER03-951-026; ER09-282-006; ER04-94-023; ER02-2085-019; ER09-281-005; ER02-417-023; ER07-1378-015; ER090-1284-005; ER05-1146-023; ER10-228-002; ER09-1285-004; ER05-481-024; ER07-240-017.

Applicants: Iberdrola Renewables Inc.; Atlantic Renewable Projects II LLC; Barton windpower LLC; Big Horn wind Project LLC; Buffalo Ridge I LLC; Buffalo Ridge II LLC; Casselman Windpower LLC; Colorado Green Holdings LLC; Dillon Wind LLC; Dry Lake Wind Power, LLC; Elk River Windfarm, LLC; Elm Creek Wind, LLC; Elm Creek Windfarm II LLC; Farmers City Wind, LLC; Flat Rock Windpower LLC; Flat Rock Windpower II LLC; Hay Canyon Wind LLC; Klamath Energy LLC; Klamath Generation LLC; Klondike Wind Power LLC; Klondike Wind Power II LLC; Klondike Wind Power III LLC; Lempster Wind, LLC; Locust Ridge Wind Farm, LLC; Locust Ridge Wind Farm II, LLC; MinnDakota Wind, LLC; Moraine Wind LLC; Moraine Wind II LLC; Mountain View Power Partners III, LLC; Northern Iowa Windpower II LLC; Pebble Springs Wind LLC; Phoenix Wind Power LLC; Providence Heights Wind, LLC; Rugby Wind LLC; Shiloh I wind Project, LLC; Star Point wind Project LLC; Streator-Cayuga Ridge Wind Power LLC; Trimont Wind I LLC; Twin Buttes Wind LLC.

Description: Quarterly Report (4Q 2009) Pursuant to 18 CFR 35.42(d) and Order 697-C of the Iberdrola Renewables MBR Sellers.

Filed Date: 01/29/2010.

Accession Number: 20100129-5125.

Comment Date: 5 p.m. Eastern Time on Friday, March 26, 2010.

Docket Numbers: ER10-64-001.

Applicants: CPV Keenan II Renewable Energy Company,

Description: Notification of Non-Material Change in Facts of CPV Keenan II Renewable Energy Company, LLC.

Filed Date: 03/15/2010.

Accession Number: 20100315-5236.

Comment Date: 5 p.m. Eastern Time on Monday, April 5, 2010.

Docket Numbers: ER10-286-001.

Applicants: Cleco Power LLC and Acadia Power Partner.

Description: Cleco Power LLC et al. submits revised tariff sheets for reflecting the waivers granted in the Order.

Filed Date: 03/15/2010.

Accession Number: 20100315-0153.

Comment Date: 5 p.m. Eastern Time on Monday, April 5, 2010.

Docket Numbers: ER10-841-001.

Applicants: New York Independent System Operator, Inc.

Description: New York Independent System Operator, Inc submits Sixth Revised Sheet 44 et al. to its FERC Electric Tariff, Original Volume 1 to be effective 5/4/10 under ER10-841.

Filed Date: 03/12/2010.

Accession Number: 20100315-0222.

Comment Date: 5 p.m. Eastern Time on Friday, April 2, 2010.

Docket Numbers: ER10-882-000.

Applicants: ISO New England Inc. & New England Power Pool.

Description: ISO New England Inc. et al. submits revisions to the Forward Capacity Market rules.

Filed Date: 03/15/2010.

Accession Number: 20100315-0156.

Comment Date: 5 p.m. Eastern Time on Monday, April 5, 2010.

Docket Numbers: ER10-883-000.

Applicants: Carolina Power & Light Company.

Description: Carolina Power & Light Company submits Standard Large Generator Interconnection Agreement.

Filed Date: 03/15/2010.

Accession Number: 20100315-0158.

Comment Date: 5 p.m. Eastern Time on Monday, April 5, 2010.

Docket Numbers: ER10-884-000.

Applicants: Midwest Independent Transmission System Operator, Inc.

Description: Midwest Independent Transmission System Operator, Inc. submits Connection Construction Agreement etc.

Filed Date: 03/15/2010.

Accession Number: 20100315-0157.

Comment Date: 5 p.m. Eastern Time on Monday, April 5, 2010.

Docket Numbers: ER10-885-000.

Applicants: Orange and Rockland Utilities, Inc.

Description: Orange and Rockland Utilities, Inc. submit amendment to its Open Access Transmission Tariff, FERC Electric Tariff Original Volume No 3 with an effective date of 4/1/2010.

Filed Date: 03/15/2010.

Accession Number: 20100315-0150.

Comment Date: 5 p.m. Eastern Time on Monday, April 5, 2010.

Docket Numbers: ER10-886-000.

Applicants: Florida Power & Light Company.

Description: Florida Power & Light Company submits First Revised Rate Schedule No 104.

Filed Date: 03/15/2010.

Accession Number: 20100315-0149.

Comment Date: 5 p.m. Eastern Time on Monday, April 5, 2010.

Docket Numbers: ER10-887-000.

Applicants: Florida Power Corporation.

Description: Florida Power Corporation submits an amendment to the October 12, 1995 Agreement for Sale and Purchase of Capacity and Energy between Progress and Seminole Electric Cooperative, Inc, First Revised Rate Schedule 176 etc.

Filed Date: 03/15/2010.

Accession Number: 20100316-0206.

Comment Date: 5 p.m. Eastern Time on Monday, April 5, 2010.

Docket Numbers: ER10-888-000.

Applicants: Southwest Power Pool, Inc.

Description: Southwest Power Pool, Inc. submits revisions to its Open Access Transmission Tariff to modify Pro Forma Meter Agent Services Agreement and Related Tariff provisions with an effective date of 5/14/2010.

Filed Date: 03/15/2010.

Accession Number: 20100316-0207.

Comment Date: 5 p.m. Eastern Time on Monday, April 5, 2010.

Docket Numbers: ER10-889-000.

Applicants: Florida Power Corporation.

Description: Florida Power Corporation submits the 2016-2024 Agreement for Sale and Purchase of System Combined Cycle Capacity and Energy between Progress and Seminole Energy Cooperative, Inc. dated 12/18/09 etc.

Filed Date: 03/15/2010.

Accession Number: 20100316-0208.

Comment Date: 5 p.m. Eastern Time on Monday, April 5, 2010.

Docket Numbers: ER10-890-000.

Applicants: NewCorp Resources Electric Cooperative, Cap Rock Energy Corporation.

Description: Refund Report of NewCorp Resources Electric Cooperative, Inc. and Cap Rock Energy Corporation.

Filed Date: 03/15/2010.

Accession Number: 20100315-5233.

Comment Date: 5 p.m. Eastern Time on Monday, April 5, 2010.

Docket Numbers: ER10-891-000.

Applicants: California Independent System Operator Corporation

Description: Petition of the California Independent System Operator Corporation for Approval of Disposition of Proceeds of Penalty Assessments.

Filed Date: 03/16/2010.

Accession Number: 20100316-5090.

Comment Date: 5 p.m. Eastern Time on Tuesday, April 6, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-6305 Filed 3-22-10; 8:45 am]

BILLING CODE 6717-01-P